FEDERAL COMMUNICATIONS COMMISSION

47 CFR Part 73

[DA 02-1652; MM Docket No. 02-24 RM-10360]

Radio Broadcasting Services; Harrodsburg and Keene, Kentucky

AGENCY: Federal Communications Commission.

ACTION: Final rule.

SUMMARY: In this document, the Commission substitutes Channel 256A for Channel 257C3 at Harrodsburg and reallots Channel 256A from Harrodsburg to Keene, Kentucky, as the community's first local aural transmission service, and modifies the license for Station WJMM-FM to reflect the changes. See 67 FR 8219 (02/22/2002). On June 2, 1997, the Audio Services Division granted a minor change application (BPH-970129IB) for WJMM-FM (formerly WHBN-FM), upgrading its facilities to specify operation on Channel 257C3 in lieu of Channel 257A. Channel 256A is allotted at Keene, Kentucky, without a site restriction. Coordinates for Channel 256A at Keene are: NL 37-56-36 and WL 84-38-31.

DATES: Effective September 3, 2002.

FOR FURTHER INFORMATION CONTACT: Victoria M. McCauley, Media Bureau, (202) 418-2180.

SUPPLEMENTARY INFORMATION: This is a synopsis of the Commission's Report and Order, MM Docket No. 02-24, adopted July 3, 2002, and released July 19, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Accordingly, part 73 of Title 47 of the Code of Federal Regulations is amended as follows:

PART 73—RADIO BROADCAST SERVICES

1. The authority citation for part 73 continues to read as follows:

Authority: 47 U.S.C. 154, 303, 334, and 336.

2. Section 73.202(b), the Table of FM Allotments under Kentucky, is amended by adding Keene, Channel 256A, and removing Harrodsburg, Channel 257A.

Federal Communications Commission.
John A. Karousos,
Assistant Chief, Audio Division, Media Bureau.

[FR Doc. 02-19733 Filed 8-5-02; 8:45 am]

BILLING CODE 6712-01-P